DEPARTMENT OF ENERGY

Implementing the National Broadband Plan; Comment Period Extension

AGENCY: Office of the General Counsel, DOE.

ACTION: Notice of extension of public comment period for reply comments.

SUMMARY: On May 11, 2010, the Department of Energy (DOE) published in the Federal Register two requests for information (RFI) regarding the implementation of the National Broadband Policy. The comment period on the RFIs closed on July 12, 2010, and reply comments are due on July 26, 2010. This notice announces that the period for submitting reply comments is extended to August 9, 2010.

DATES: DOE will accept reply comments, data, and information regarding the National Broadband Plan RFI: Data Access and the National Broadband Plan RFI: Communications Requirement received no later than August 9, 2010.

ADDRESSES: Any comments submitted must identify the National Broadband Plan RFI: Data Access or the National Broadband Plan RFI: Communications Requirement, as appropriate. Comments may be submitted using any of the following methods:

• Federal eRulemaking Portal: http://www.regulations.gov. Follow the instructions for submitting comments.

• E-mail: broadband@hq.doe.gov. Include “NBP RFI: Data Access” or “NBP RFI: Communications Requirement” in the subject line of the message.

• Postal Mail: U.S. Department of Energy, Office of the General Counsel, 1000 Independence Avenue, SW., Room 6A245, Washington, DC 20585-0121. Please submit one signed original paper copy.

FOR FURTHER INFORMATION CONTACT: Ms. Maureen C. McLaughlin, Senior Legal Advisor to the General Counsel (202) 586-5281; broadband@hq.doe.gov. For media inquiries, you may contact Jen Stutsman at (202) 586-4940.

SUPPLEMENTARY INFORMATION: On May 11, 2010, the DOE released two RFIs in the Federal Register regarding the implementation of the National Broadband Policy. (75 FR 26203, 75 FR 26206). The first RFI requested information from electric utilities, consumer groups, and other interested parties regarding the protection of and access to consumer energy usage data as federal, state, and private entities seek to develop Smart Grid technologies. The second RFI requested information on the evolving needs of electric utilities as Smart Grid technologies are more broadly deployed. These RFIs, intended to solicit opinions from a diversity of stakeholders, provided for the submission of comments by July 12, 2010, and the submission of reply comments by July 26, 2010. To date, DOE has received more than 80 comments from electric utilities, private corporations, and consumer groups.

Given the high volume of comment submission and the apparent public interest, the DOE has determined that an extension of the public reply comment period is appropriate and is hereby extending the reply comment period. DOE will consider any comments received by August 9, 2010 and deems any comments received between July 12, 2010 and July 22, 2010 to be timely submitted.

Issued in Washington, DC, on July 16, 2010.
Scott Blake Harris,
General Counsel.

[FR Doc. 2010-18005 Filed 7-21-10; 8:45 am]

BILLING CODE 6450-01-P